DEPARTMENT OF ENERGY

Office of Energy Efficiency and Renewable Energy

Notice of Availability of a Financial Assistance Solicitation for Cooperative Agreement Proposals

AGENCY: Chicago Operations Office, DOE.

ACTION: Notice of solicitation availability.

SUMMARY: The Department of Energy (DOE) announces its interest in receiving applications for research and development and demonstration in the area of the Advanced Communications and Controls Program (ACCP). The objective of the solicitation is to demonstrate sensing, communication, information and control technologies to achieve a seamless integration of multi-vendor distributed energy resources (DER) units at aggregation levels that meet individual user requirements for facility operations (residential, commercial, industrial, manufacturing, etc.) and further serve as resource options for electric and natural gas utilities.

DATES: Solicitation Number DE-SC02-03CH11139 and any amendments will be available on DOE's “Industry Interactive Procurement System” (IIPS) Web page located at http://e-center.doe.gov on or about November 22, 2002. All applications must have an IIPS transmission time stamp of not later than 11:59 A.M. Eastern Time on the date specified in the solicitation, which is expected to be on or about January 31, 2003.

ADDRESSES: Prospective applicants are advised to check the above Internet address on a daily basis. All applications must be submitted through IIPS in accordance with the instructions provided in the solicitation and the IIPS User Guide, which can be obtained by going to the IIPS Secured Services site at http://e-center.doe.gov under the “HELP” section of the Web site. Applicants must register in IIPS prior to submitting an application. Only registered users will have the capability to transmit their applications in a responsive manner. Applicants are strongly encouraged to register with IIPS as soon as possible prior to the application deadline. If you need technical assistance in registering or for any other IIPS function, call the IIPS Help Desk at (800) 683-0751 or E-mail the Help Desk personnel at IIPS HelpDesk@e-center.doe.gov. The solicitation will only be made available in IIPS, no hard (paper) copies of the solicitation and related documents will be made available. All applications must have an IIPS transmission time stamp of not later than 11:59 A.M. Eastern Time on the date specified in the solicitation, which is expected to be on or about January 31, 2003. Applicants are advised to begin transmission 24 hours in advance of the deadline in order to prevent any transmission difficulties. The solicitation and any subsequent amendments will be published on the above mentioned Internet address.

FOR FURTHER INFORMATION CONTACT: Kristin E. Palmer, (630) 252-2708.

SUPPLEMENTARY INFORMATION: The scope of work for this cooperative research and development and demonstration solicitation will be in two phases. This solicitation will be for Phase I applications only, but will describe some aspects of possible Phase II awards as reference information. It is DOE's intent to evaluate submitted designs and business plans in Phase I, and support the further testing of only the most promising approaches in Phase II. Phase I activities involve the design and the proof-of-design stage and Phase II involves the demonstration of the Phase I design architecture to a large scale in real-world settings while integrating with the operations of one or more feeder lines. The duration of the Phase I project is estimated to be six months, with the entire project's scope of work—for Phase I and Phase II combined—to be completed within 2.5 years. DOE expects to award about four to six cooperative agreements under this solicitation for Phase I. It is anticipated that two or three of the Phase I applicants will proceed to Phase II. Only Phase I awardees will be eligible for consideration for Phase II. Estimated total DOE funding for Phase I is $1.2M. Subject to the availability of funds, the estimated total of any future DOE funding for Phase II is $1.8M. A minimum non-federal cost sharing commitment of 20% of the total proposed costs for Phase I is required. A minimum non-federal cost sharing commitment of 50% of the total proposed costs for Phase II is required.

The purpose of this solicitation is to invite interested parties to submit an application for cost-shared cooperative agreements with the Department of Energy (DOE) for research and development and demonstration for integrated communication and control solutions that would enable interoperable and integrated operation of large numbers of distributed energy resources from varying suppliers to achieve optimization in power quality, power reliability and economic performance. The fully demonstrated DER aggregation system with embodiment of communication and control technologies will lead to real-time, interactive customer-managed service networks to achieve greater customer value. Any for-profit or non-profit organization or other institution of higher education, or non-federal agency or entity is eligible to apply, unless otherwise restricted by the Simpson-Craig Amendment. Integrated project teams that include electric utilities (investor-owned, municipal, cooperative), energy service companies, DER suppliers, information technology providers and customers who will use the aggregated DER system are highly encouraged. Collaborations with state energy agencies, national laboratories and universities are also encouraged. DOE National Laboratory participation as a subcontractor to an awardee under this solicitation is limited to no more than 20% of the total cost of all tasks to be performed. The solicitation when issued will include a narrative scope of work, program requirements, qualification criteria, evaluation criteria, and other information. Specific response instructions and deadlines will be included in the solicitation package.

Issued in Argonne, Illinois on October 24, 2002.
John D. Greenwood,
Assistant Manager for Acquisition and Assistance.

[FR Doc. 02-28653 Filed 11-8-02; 8:45 am]

BILLING CODE 6450-01-P